ENVIRONMENTAL PROTECTION AGENCY

40 CFR Part 50

[FRL-7831-3]

Air Quality Criteria for Particulate Matter

AGENCY: Environmental Protection Agency.

ACTION: Notice of Availability of Final Document.

SUMMARY: This notice announces the availability of a final document, Air Quality Criteria for Particulate Matter (EPA/600/P-99/002aF, EPA/600/P-99/002bF) that was prepared by the U.S. Environmental Protection Agency's (EPA) National Center for Environmental Assessment (NCEA) of the Office of Research and Development (ORD).

DATES: This document will be available the week of October 25, 2004.

ADDRESSES: The document will be made available electronically through the NCEA Web site (http://www.epa.gov/ncea/publications). A limited number of paper or CD-ROM copies will be available from the EPA's National Service Center for Environmental Publications (NSCEP), P.O. Box 42419, Cincinnati, OH 45242; telephone: 1 (800) 490-9198 or (513) 489-8190; facsimile: (513) 489-8695. Please provide your name, your mailing address, the title and the EPA number of the requested publication.

FOR FURTHER INFORMATION CONTACT: For questions on availability of the document, contact Diane Ray, NCEA, telephone: (919) 541-3789, fax: (919) 541-1818, or email ray.diane@epa.gov. For technical information, contact Robert Elias, Ph.D., NCEA, fax: (919) 541-1818 or email: elias.robert@epa.gov.

SUPPLEMENTARY INFORMATION: Section 108 (a) of the Clean Air Act directs the Administrator to identify certain pollutants which “may reasonably be anticipated to endanger public health and welfare” and to issue air quality criteria for them. These air quality criteria are to “accurately reflect the latest scientific knowledge useful in indicating the kind and extent of all identifiable effects on public health or welfare which may be expected from the presence of [a] pollutant in the ambient air. * * *” EPA is then to establish National Ambient Air Quality Standards (NAAQS) for each pollutant for which EPA has issued criteria. Section 109 (d) of the Act requires “thorough” periodic review and, if appropriate, revision of existing air quality criteria to reflect the latest scientific data on all identifiable effects on public health and welfare of the pollutant. EPA is also to revise the NAAQS, if appropriate, based on the revised criteria.

Particulate matter (PM) is one of six “criteria” pollutants for which EPA has established air quality criteria and NAAQS. EPA initially announced details of its plans for the review of the criteria and NAAQS for PM in an October 23, 1997 Federal Register notice (62 FR 55201). As part of its current review cycle of the PM criteria and NAAQS, EPA has revised the existing Criteria Document for PM. The revised Criteria Document will be publicly available on or about October 29, 2004, as described above.

Dated: October 25, 2004.
George Alapas,
Director, National Center for Environmental Assessment.

[FR Doc. 04-24232 Filed 10-28-04; 8:45 am]

BILLING CODE 6560-50-P